FEDERAL COMMUNICATIONS COMMISSION

47 CFR Part 64

[WC Docket No. 12-375, DA 22-676; FR ID 94957]

Rates for Interstate Inmate Calling Services

AGENCY: Federal Communications Commission.

ACTION: Final order; revision of annual reporting requirements.

SUMMARY: In this document, the Wireline Competition Bureau (WCB) of the Federal Communications Commission (Commission) adopts an Order revising the instructions, reporting template, and certification form for the annual reports submitted by providers of calling services to incarcerated people.

DATES: The Order was adopted June 24, 2022. The effective date of the Order is delayed indefinitely. The Federal Communications Commission will publish a document in the Federal Register announcing the date the revisions to the annual reporting requirements will be effective once the Office of Management and Budget (OMB) has provided the approval required by the Paperwork Reduction Act (PRA).

FOR FURTHER INFORMATION CONTACT: Lee McFarland, Pricing Policy Division, Wireline Competition Bureau, (202) 418-1787, or email lee.mcfarland@fcc.gov.

SUPPLEMENTARY INFORMATION: This is a summary of the Commission's Order, WC Docket No. 12-375, DA 22-676, adopted and released on June 24, 2022. The full text of this document is available at https://docs.fcc.gov/public/attachments/DA-22-676A1.pdf.

I. Introduction

1. By this Order, the Wireline Competition Bureau (Bureau) revises the instructions, reporting template, and certification form for the annual reports submitted by providers of calling services to incarcerated people. The revisions the Bureau implements today largely adopt the proposals contained in the Bureau's December 2021 request for comments, with certain minor refinements and reevaluations responsive to comments filed in response to that request.

II. Background

2. The Commission requires inmate calling services (ICS) providers to make annual filings to help it monitor and track trends in the ICS marketplace, increase provider transparency, and promote compliance with the Commission's ICS rules. Pursuant to its delegated authority, the Bureau created standardized reporting templates for the annual report (FCC Form 2301(a)) and a related certification of accuracy (FCC Form 2301(b)), as well as instructions to guide providers through the reporting process. In 2020, the Bureau amended the instructions and template for the annual report in order to improve the type and quality of the information collected.

3. In the 2021 ICS Order, the Commission revised its ICS rules by adopting, inter alia, lower interim rate caps for interstate ICS calls, new interim rate caps for international ICS calls, and a rate cap structure that requires ICS providers to differentiate between legally mandated and contractually required site commissions. These rule changes necessitated further changes to the annual reporting and certification templates, which the Bureau proposed in the December 2021 request for comments. In response to the request, the Bureau received comments from ICS providers, public interest advocates, and other interested parties. Several commenters express support for the revisions proposed in that request.

III. Discussion

4. Pursuant to the Bureau's delegated authority, the Bureau adopts the instructions and templates for annual reports and certifications for ICS providers attached hereto as Appendix A. Appendix A provides the instructions as well as links to the templates. The reporting template consists of a Word document and Excel spreadsheets. For simplicity, the Bureau refers to these respective portions of the reporting template as the Word template and the Excel template. These instructions and templates largely follow the proposals in the Bureau's December 2021 request for comments, with a small number of revisions to enhance the value and usefulness of the annual reports, the majority of which reduce existing or proposed reporting burdens. These revisions reflect full consideration of the record received in response to that request for comments, including potential burdens on ICS providers. The Bureau expects the detailed instructions and templates it adopts to result in reports that provide the Commission, its state counterparts, and the public with a clearer, more complete picture of ICS providers' operations than was available under prior annual reports, without unduly increasing burdens on providers. In particular, the changes the Bureau makes to the instructions and templates will make ICS providers' rates, ancillary service charges, and practices more transparent and, through that increased transparency, help ensure compliance with the Commission's ICS rules.

A. Specific Data and Information Inquiries

5. The reporting requirements the Bureau adopts in this Order cover the general categories of information the Bureau proposed in the December 2021 request for comments. These categories include the submission of information on facilities served; interstate, intrastate, and international ICS rates; ancillary service charges; site commissions; and disability access, among other matters. The Bureau finds that these categories strike the appropriate balance between providing clear and useful information about ICS providers, and minimizing the associated reporting burdens. The Bureau notes that the categories of information it requests are generally consistent with, but not identical to, those ICS providers in the state of Colorado are required to address in quarterly reports to the Colorado Commission.

1. Reporting Information on ICS Rates

6. The Bureau adopts the reporting requirements for interstate, international, and intrastate ICS rates as proposed, with minor revisions, as discussed below. In the December 2021 request for comments, the Bureau proposed to require every provider to submit the highest, average, and year-end interstate, international, and intrastate ICS rates charged at each of its facilities, as well as information regarding providers' international termination charges. Given that “providers may charge one rate for the initial minute of a call and another for each successive minute” and may “frequently adjust their rates” during the course of a year, the Bureau finds that each of these data points is necessary for the Bureau to fully understand providers' rates. Although some commenters contend that the Bureau's proposed collection would be unnecessarily burdensome, the Bureau's revised approach will significantly reduce the burdens on providers, and the Bureau finds that detailed information regarding providers' interstate, international, and intrastate ICS rates is needed to ensure that the annual reports enable the Commission, its state counterparts, and the public to evaluate and effectively monitor interstate, international, and intrastate ICS rates.

7. The Bureau declines to reduce the categories of rate data it collects. Some commenters complain that the rate data the Bureau proposed would be overly burdensome: one argues against collecting the highest and average rates charged for a 15-minute call during the calendar year at each facility; another alleges that the information the Bureau seeks surrounding international termination charges in addition to the rate information the Bureau seeks for international rates—including the highest per-minute rate, first minute rate, and additional minute rate—will especially burden those providers that serve facilities with average daily populations of less than 1,000. These arguments fail to recognize that implementation of the Bureau's proposals will significantly reduce the existing rate reporting burdens on providers, and the Bureau's decision accounts for the benefit of collecting this rate information and the reduced burden on providers. Under the current requirements, providers must report every rate they charged during the calendar year, a significantly broader undertaking than simply reporting highest, average, and year-end rates. Limiting the required reported rates to only the highest, average, and year-end rates thus constitutes a winnowing of the providers' current rate reporting responsibilities. Given the Bureau's decision to no longer collect data on every single rate which providers have charged over the course of a year, information on each of these three measures is essential to understand how providers' rates vary over the course of a year and the impact of those variations on consumers.

8. In the December 2021 request for comments, the Bureau also proposed to require providers to report international rate information separately for each facility served. One commenter points out, however, that providers typically charge the same international rates for all facilities covered under the same contract and that it is unnecessary to require providers to report identical international rate information for each of several facilities covered under the same contract. The Bureau agrees and therefore allows providers to report international rate information at the contract level, as opposed to the facility level, in most situations. This approach should further reduce the reporting burden on providers. Where, however, a provider charges different international rates for calls from facilities covered by the same contract, it must report its international rate data on a facility-by-facility basis to ensure such differences are captured.

9. The Bureau also revises the instructions and reporting template to require that detailed international rate information be reported only for countries to which calls were actually placed from a given facility during the reporting period, and to report the web address at which international rate information can be found for other countries to which no calls were placed. To ensure that the annual reports provide complete information regarding the rates at which providers offered international ICS, the Bureau requires providers to provide links to the publicly available web pages that capture their international ICS offerings for service to other counties as of the end of the reporting period. These changes provide clarity as to how the Bureau expects providers to list their international rates. They also significantly reduce the burdens below those providers faced under the Bureau's prior requirements.

10. The Bureau declines to limit the collection of information surrounding international rates to only the rate that was charged for the domestic portion of international calls. In the December 2021 request for comments, the Bureau proposed to require providers to report any charges they assessed on consumers to terminate international calls as well as the amounts they paid to their underlying international service providers for such termination. One commenter claims providers lack control over third-party termination rates and therefore should not be required to report them. The Bureau does not agree. The rules adopted by the Commission in the 2021 ICS Order permit each provider to include, in its charges for an international call, the average per-minute amount the provider paid its underlying providers to terminate international calls to an international destination during the preceding calendar quarter. The rules also require these charges to be itemized on a customer's bill. Consequently, information on both the amounts passed through and the amounts paid to third parties is essential to evaluate whether providers' international rates comply with the Commission's rules.

2. Reporting Ancillary Service Charges Information

11. The Bureau adopts the reporting requirements for ancillary service charges assessed by ICS providers as proposed, with certain revisions, as discussed below. In the December 2021 request for comments, the Bureau proposed to require every provider to report, on a facility-by-facility basis, certain information about any ancillary services charges it assesses and to include a narrative explanation concerning any methodologies it uses to allocate those charges among multiple facilities served under a single contract. The Bureau finds that the requested information is necessary to evaluate whether providers' ancillary services charges comply with the Commission's ancillary services charge rules and that submitting this information will not place an undue burden on providers.

12. The Bureau agrees that the submission of additional information related to specific third-party ancillary service charges that providers are permitted to pass-through to consumers under the Commission's current rules is warranted. To that end, the Bureau requires providers to identify whether their ancillary service charges are fixed or variable. The Bureau also requires providers to identify each third party whose fees for single-call and related service charges or third-party financial transactions were passed through to ICS consumers, and to state the number of times such charges were assessed, and the total amounts of such charges passed through to consumers. Although PPI focuses on the pass through of third-party financial transaction fees, the Bureau finds that PPI's arguments apply with equal force to the pass through of third party single-call and related services fees. To be clear, where a contract involves pass-through charges from multiple third parties, the Bureau requires providers to identify each third party and to itemize the corresponding charges separately. These changes will help ensure that ICS providers are not using third-party contracts to circumvent the Commission's limits on ancillary services charges or improperly pass through third-party fees in violation of the 2021 ICS Order. In addition, these changes will add clarity as to how the different ancillary service charges are structured and assessed.

13. Similarly, the Bureau agrees with the commenter who argues it will be useful to require providers to provide a narrative explanation of how they calculate variable service charges. This narrative will provide the Commission and consumers valuable information about third-party transaction fees. Further, the Bureau expects that providing this information should impose only a minimal, if any, additional burden on providers because the Bureau understands relatively few ancillary services fees are variable. The benefits of obtaining more detailed information about how ancillary service charges are assessed outweighs any minor increase in burden.

3. Reporting Site Commission Information

14. The Bureau adopts the reporting requirements it proposed concerning site commissions, with minor revisions. In the December 2021 request for comments, the Bureau proposed to require providers to report their average total monthly site commission payments on a facility-by-facility basis and to separate those payments between legally mandated and contractually prescribed site commission payments, consistent with the Commission's rules. The Bureau declines to implement one commenter's request that the Bureau essentially modify the definition of “legally mandated” site commissions as beyond the scope of this Order. This Bureau-level order is limited to revising the instructions and reporting template for ICS providers' annual reports and certifications and not appropriate for modifying Commission-adopted definitions. The Bureau also proposed to require providers to subdivide both types of payments between monetary and in-kind payments and, within those subdivisions, to report the portions of the payments that were either fixed or variable. The Bureau disagrees with those commenters that contend that this level of disaggregated reporting would impose onerous burdens on providers and would not “serve the public interest.” The Bureau finds that its disaggregated site commission reporting requirements will provide benefits—allowing the Bureau to collect more complete and detailed information for analysis regarding the providers' site commission payments—that far outweigh any increased burden on providers. Moreover, the argument that the Commission has not previously required providers to report in-kind site commission payments is incorrect. The existing instructions require providers to report both fixed and variable site commission payments, and defines “site commissions” as “any form of monetary payment, exchange of services or goods, fee, technology allowance, or product that a provider of ICS may pay, give, donate, or otherwise provide to an entity with which the provider of ICS enters into an agreement to provide ICS, a governmental agency that oversees a correctional facility, the city, county, or state where a facility is located, or an agent of any such facility.”

15. In December, 2021, the Bureau proposed to require each provider to submit a narrative response regarding certain aspects of its in-kind site commission payments. The Bureaurevise this instruction to also specify that the provider describe the valuation methodology it used to determine the value of its in-kind site commissions reported. The Bureau finds this additional requirement necessary because in-kind site commission payments encompass a wide variety of goods or services, such as items developed through in-house labor, which may lack easily ascertainable monetary values.

16. However, the Bureau declines to adopt other suggestions that would either increase the burden on reporting providers without any offsetting benefit or unduly limit the information collected on in-kind site commissions. For example, it is not clear how a specific requirement that providers report in-kind site commissions on both the adjusted basis (i.e., book value) and the fair market value of the transferred property would produce sufficiently useful information to justify the additional burden on providers. On the other hand, simply requiring providers to “identify any in-kind site commissions and describe how those payments are valued” could allow providers to avoid imputing an actual dollar value for their in-kind site commissions, resulting in insufficient visibility into those transactions. On balance, the Bureau finds that its adopted approach, requiring providers to report the value of in-kind site commissions and to describe the valuation methodology they used, will provide the most useful information without unduly burdening providers.

4. Disability Access and Related Considerations

17. The Bureau next revises the proposed instructions and reporting template to more precisely target the most necessary information related to providers' disability access services. In December, 2021, the Bureau proposed to require every provider to report certain information regarding any ancillary services charges imposed for, or in connection with, TTY-based calls at each facility the provider served during the reporting period. According to the record, this proposal should be narrowed slightly to track only the ancillary service fees a provider charges specifically in connection with the access and use of TTY equipment or other disability-related technologies. The Bureau agrees, and therefore revises the instructions to require that providers report, on a facility-by-facility basis, any ancillary service charges they impose specifically for accessing and using TTY equipment and other disability-related ICS technologies. This instruction should not be construed to imply that any such charges are permitted by the Commission's rules. This change will provide the Commission and the public with a more accurate view of providers' ancillary service charges specifically in connection with disabilities access than would have been available under the Bureau's original proposal.

5. Miscellaneous

18. The Bureau declines at this time to use the annual reporting process to obtain information about ICS providers' bundled contract offerings (i.e., contracts including voice, video, text, emails, or other services), as two parties urge. The Bureau finds that the proposed additional categories of information would not advance the purposes of the annual reporting requirement enough to outweigh the potential added burdens on ICS providers.

19. The Bureau also declines to adopt a request to remove questions about the geographic coordinates of facilities. The Bureau finds geographic location data to be useful, and in some cases necessary, to accurately identify the location of certain facilities. And, because each provider's response to the Third Mandatory Data Collection must include the geographic coordinates of each facility it serves, reporting that previously-determined information in the annual reports can hardly be characterized as imposing a burden on providers.

6. Confidential Information

20. The Bureau also declines to implement one commenter's suggestion that the Bureau specifically require providers to submit a detailed motion if they redact information from the public version of their annual reports. Any such action would constitute a departure from the Commission's long-established procedure under which provider “[f]ilings containing legitimate confidential information can be appropriately redacted and filed pursuant to the guidance and limitations set forth in the [ICS] Protective Order and the standard set forth in section 0.459 of the Commission's rules.” The Bureau has previously explained that “any request for confidential treatment must adhere to the standard set forth in section 0.459(b) of the Commission's rules, as applied in the ICS Annual Report Transparency Order.” The Bureau finds no reason to disturb these existing procedures based on the record before it.

B. Effective Date and Implementation Date

21. Because this Order imposes new or modified information collection requirements subject to the Paperwork Reduction Act of 1995 (PRA), its effective date will be delayed indefinitely pending approval by the Office of Management and Budget (OMB). In the event of such approval, the Commission will publish a document in the Federal Register announcing OMB approval and establishing the date of such publication as the effective date of this Order.

22. The Bureau expects that this effective date will be established long before the April 2023 due date for providers' next annual reports and certifications for calendar year 2022. An expected April 2023 implementation date moots commenter concerns premised on the assumption that the revisions would become effective before providers had to submit their 2022 annual reports. When the Bureauproposed the revisions to the instructions and templates for the annual reports in the December 2021 request for comments, the Bureau expected that such changes would receive OMB approval under the PRA and take effect in time for their use in the April 2022 filings. This did not occur. Consequently, the Bureau no longer needs separate instructions for the period between January 1, 2021 and October 26, 2021 when certain of the rules adopted in the 2021 ICS Order became effective. The Bureau has therefore revised the instructions and templates accordingly. Thus, providers should expect that, absent further Bureau direction, the revisions adopted in this Order will apply to all subsequent annual report and certification filings. Providers will have ample time to collect the information needed for the revised annual reports due in April 2023.

IV. Procedural Matters

23. Supplemental Final Regulatory Flexibility Act Analysis. As required by the Regulatory Flexibility Act of 1980, as amended (RFA), the Bureau has prepared a Supplemental Final Regulatory Flexibility Analysis (FRFA) relating to this Order. The RFA has been amended by the Small Business Regulatory Enforcement Fairness Act of 1996 (SBREFA). The SBREFA was enacted as Title II of the Contract with America Advancement Act of 1996 (CWAAA). The Supplemental FRFA is set forth in Appendix B.

24. Final Paperwork Reduction Act Analysis. The Order contains new or modified information collection requirements subject to the PRA. It will be submitted to OMB for review under section 3507(d) of the PRA. OMB, the general public, and other Federal agencies will be invited to comment on the new or modified information collection requirements contained in this proceeding. In addition, the Bureau notes that pursuant to the Small Business Paperwork Relief Act of 2002, Public Law 107-198; see 44 U.S.C. 3506(c)(4), the Bureau previously sought specific comment on how the Commission might further reduce the information collection burden for small business concerns with fewer than 25 employees. The Bureau has assessed the effects of the requirements for annual reports and certifications on small business concerns, including those having fewer than 25 employees, and find that to the extent such entities are subject to those requirements, any further reduction in the burden of the collection would be inconsistent with the objectives behind the collection.

25. Congressional Review Act. The Commission will not send a copy of this Order to Congress and the Government Accountability Office pursuant to the Congressional Review Act (CRA), see 5 U.S.C. 801(a)(1)(A), because it does not adopt any rule as defined in the CRA, 5 U.S.C. 804(3).

V. Supplemental Final Regulatory Flexibility Analysis

26. As required by the Regulatory Flexibility Act of 1980, as amended (RFA), a Supplemental Initial Regulatory Flexibility Analysis (Supplemental IRFA) was incorporated in the 2021 ICS Order, released in May 2021. The RFA has been amended by the Small Business Regulatory Enforcement Fairness Act of 1996 (SBREFA). The Commission sought written public comment on the proposals in that Order, including comments on the Supplemental IFRA. The comments received are addressed below. This present Supplemental Final Regulatory Flexibility Analysis (Supplemental FRFA) conforms to the RFA.

A. Need for, and Objectives of, the Order

27. In this Order, the Commission's Wireline Competition Bureau (the Bureau) adopts revisions to the instructions and templates for the annual reports and certifications submitted by providers of ICS. In the 2021 ICS Order, the Commission revised its ICS rules by adopting, inter alia, lower interim rate caps for interstate ICS calls, new interim rate caps for international ICS calls, and a rate cap structure that requires ICS providers to differentiate between legally mandated and contractually required site commissions. The rules implemented by the 2021 ICS Order necessitate further changes to the annual reporting and certification templates, which the Bureau proposed in the December 2021 request for comments.

28. Pursuant to its delegated authority, the Bureau has prepared updates to the annual reporting and certification templates and is issuing the Order to adopt all aspects of these documents.

B. Summary of Significant Issues Raised by Public Comments in Response to the Supplemental IRFA

29. There were no comments filed that specifically addressed the proposed rules and policies in the Supplemental IRFA.

C. Response to Comments by the Chief Counsel for Advocacy of the Small Business Administration

30. Pursuant to the Small Business Jobs Act of 2010, which amended the RFA, the Commission is required to respond to any comments filed by the Chief Counsel for Advocacy of the Small Business Administration (SBA), and to provide a detailed statement of any change made to the proposed rules as a result of those comments.

31. The Chief Counsel did not file any comments in response to the proposed rules in this proceeding.

D. Description and Estimate of the Number of Small Entities to Which Annual Report and Certification Requirements Will Apply

32. The RFA directs agencies to provide a description of, and where feasible, an estimate of the number of small entities that may be affected by the annual report and certification requirements. The RFA generally defines the term “small entity” as having the same meaning as the terms “small business,” “small organization,” and “small governmental jurisdiction.” In addition, the term “small business” has the same meaning as the term “small-business concern” under the Small Business Act. A “small-business concern” is one which: (1) is independently owned and operated; (2) is not dominant in its field of operation; and (3) satisfies any additional criteria established by the SBA.

33. Regulatory Flexibility Analyses were incorporated in the 2020 ICS Order and 2021 ICS Order. In those analyses, the Commission described in detail the small entities that might be affected. Accordingly, in this Order, for the Supplemental FRFA, the Bureau hereby incorporates by reference the descriptions and estimates of the number of small entities from these previous Regulatory Flexibility Analyses.

E. Description of Projected Reporting, Recordkeeping, and Other Compliance Requirements for Small Entities

34. The annual report and certification requirements direct ICS providers to submit, among other things, data and other information on calls, demand, operations, company and contract information, information about facilities served, revenues, site commission payments, and ancillary fees and to certify as to their compliance with relevant Commission rules. The Bureau estimates that approximately 20 ICS providers will be subject to this reporting requirement. In the aggregate, the Bureau estimates that responses will take approximately 3,740 hours.

F. Steps Taken To Minimize the Significant Economic Impact on Small Entities and Significant Alternatives Considered

35. The RFA requires an agency to describe any significant alternatives that it has considered in reaching its proposed approach, which may include the following four alternatives (among others): “(1) the establishment of differing compliance or reporting requirements or timetables that take into account the resources available to small entities; (2) the clarification, consolidation, or simplification of compliance and reporting requirements under the rules for such small entities; (3) the use of performance rather than design standards; and (4) an exemption from coverage of the rule, or any part thereof, for such small entities.”

36. The annual report and certification requirements impose a recurring obligation on providers. Because the Commission's 2021 ICS Order requires all ICS providers to submit annual reports and certifications, the collection will affect smaller as well as larger ICS providers. The Bureau has taken steps to ensure that the reporting template is competitively neutral and not unduly burdensome for any set of providers and has considered the economic impact on small entities, as identified in comments filed in response to the December 2021 request for comments, in finalizing the instructions and reporting templates for the annual reports and certifications. In response to the comments, the Bureau has refined certain aspects of the instructions and reporting templates. These modifications avoid unduly burdening responding providers while ensuring that providers have sufficiently detailed and specific instructions to respond to the data collection.

G. Report to Congress

37. The Commission will send a copy of the Order, including this Supplemental FRFA, in a report a report to be sent to Congress pursuant to the Small Business Regulatory Enforcement Fairness Act of 1996. In addition, the Commission will send a copy of the Order, including this Supplemental FRFA, to the Chief Counsel for Advocacy of the Small Business Administration. A copy of the Order, and Supplemental FRFA (or summaries thereof) will also be published in the Federal Register.

VI. Ordering Clauses

38. Accordingly, it is ordered that, pursuant to the authority contained in sections 1, 2, 4(i)-(j), 155(c), 201(b), 218, 220, 276, and 403 of the Communications Act of 1934, as amended, 47 U.S.C. 151, 152, 154(i)-(j), 155(c), 201(b), 218, 220, 276, and 403, and the authority delegated pursuant to sections 0.91, 0.201(d), and 0.291 of the Commission's rules, 47 CFR 0.91, 0.201(d), 0.291, this Order is adopted.

39. It is further ordered that the Commission's Consumer and Governmental Affairs Bureau, Reference Information Center, shall send a copy of this Order, including the Supplemental Final Regulatory Flexibility Analysis, to the Chief Counsel for Advocacy of the Small Business Administration.

Federal Communications Commission.
Lynne Engledow,
Deputy Chief, Pricing Policy Division, Wireline Competition Bureau.

Note: The following appendix, Annual Reporting and Certifications Instructions and Template, will not appear in the Code of Federal Regulations.

I. Overview

In the 2015 ICS Order, the Federal Communications Commission (Commission or FCC) charged the Wireline Competition Bureau (Bureau) with implementing requirements designed to help the Commission monitor the rates, fees, and practices of Providers of Calling Services to incarcerated people (Inmate Calling Services or ICS). Specifically, the Commission directed the Bureau to develop an Annual Report that each ICS Provider must file regarding its Inmate Calling Services operations during the preceding calendar year. The Commission also directed the Bureau to develop related instructions and a template to gather this information, and required each ICS Provider to file an Annual Certification declaring its compliance with the Commission's Inmate Calling Services rules during the preceding calendar year. These Annual Reporting and Annual Certification requirements are designed to help ensure transparency in ICS rates, fees, and practices, and to ensure that ICS Providers comply with the Commission's rules.

These instructions and the accompanying templates and certification form are designed to implement the Commission's directives. These instructions and the associated template and certification form consolidate and supplant the instructions and template for earlier iterations of the ICS annual reporting and certification requirements. As discussed below, the template consists of a Word document and Excel spreadsheets. For simplicity, we refer to these respective portions of the template as the Word template and the Excel template.

II. General Instructions and Filing Requirements

A. Who must file?

Each Inmate Calling Services Provider must submit a complete and accurate Annual Reporting Form (FCC Form 2301(a)) and Annual Certification Form (FCC Form 2301(b)) (collectively, FCC Form 2301) annually. Each group of affiliated Providers shall respond as a single entity, regardless of the number of separately incorporated companies or other entities within that group that provide ICS.

A Subcontractor is classified as an ICS Provider if it partners with or serves an ICS Provider that holds a direct contractual relationship with a correctional authority, and the Subcontractor also provides ICS services to incarcerated people, for example, by completing calls for ICS Customers. A Subcontractor is not exempted from the definition of an ICS Provider on the grounds that it lacks a direct contractual relationship with a correctional authority. Therefore, where a Subcontractor completes calls but the ICS Provider bills Customers for those calls and then pays the Subcontractor, that Subcontractor will also meet the definition of an ICS Provider. By contrast, an entity that only provides billing and collection for inmate calling services provided by a separate entity and remits those revenues to that entity may not meet the definition of an ICS Provider.

Providers (including all Subcontractors that meet the definition of Provider set forth below) must complete and file all sections of FCC Form 2301 unless otherwise indicated.

Throughout these instructions, the terms “you” and “your” refer to any entities that must submit the FCC Form 2301. Part III, below, defines other terms used in these instructions and in the Annual Reporting and Annual Certification Forms.

B. What To File

You must fully and completely respond to each request for information in these instructions using the attached Word and Excel templates and certification form. Once finalized, these templates and form will be available at https://www.fcc.gov/general/ics-data-collections. You must submit each template in a machine-readable and manipulatable format.

1. Annual Reporting Form

Your Annual Reporting Form shall consist of: (1) a Word document containing responses that require a narrative explanation (see Appendix A to these instructions); and (2) an Excel spreadsheet containing responses that indicate specific numbers, percentages, and/or information (see Appendix B to these instructions).

As a general matter, these instructions direct you to enter your responses to requests for certain information or numbers at specific places in these templates. Provide your narrative responses in the Word template (Appendix A). You must also use the Word template to provide any additional information needed to ensure that your response is full and complete, and to identify and explain any caveats associated with your response.

Unless otherwise stated, provide your responses for the Annual Reporting Form using the Excel template (Appendix B). As a general matter, your entries on the Excel template will require input of specific numbers or percentages (e.g., a Facility's Average Daily Population) or discrete information (e.g., a Facility's geographical coordinates). The Excel template uses “N/A” or “0” as specifically instructed to identify cells in which no data are to be reported. Following the same format, you should add additional rows or columns to this template as necessary to complete your responses.

2. Annual Certification Form

You must complete the Annual Certification Form (see Appendix C to these instructions) regarding the truthfulness, accuracy, and completeness of the Provider's Annual Reporting Form and the Provider's compliance with the Commission's ICS rules.

Submissions will be rejected and returned for correction and resubmission if made without a completed certification form by an officer of the Provider that, based on information and belief formed after reasonable inquiry, the statements and information contained in the Report are accurate and complete.

C. Filing Deadline and Submission

The Annual Reporting and Annual Certification Forms for the preceding calendar year must be submitted by April 1 of each year.

You must submit public versions of your Annual Reporting and Annual Certification Forms by filing the completed forms electronically through the Commission's Electronic Comment Filing System (ECFS), by accessing the ECFS at https://www.fcc.gov/ecfs/.

You may file any information that you believe should be afforded confidential treatment pursuant to the guidance and limitations in the Protective Order in this proceeding and by adhering to the standard set forth in section 0.459(b) of the Commission's rules, the ICS Annual Report Transparency Order, and other applicable precedent. As the Bureau explained with regard to the 2019 Annual Reports, information regarding “facility names, inmate calling services rates, [and] the amounts of ancillary service charges” is not entitled to confidential treatment, given the “strong public interest in transparency surrounding rates, charges, terms, and fees for inmate calling services.” Similarly, information on a Facility's average daily population was not protected from public disclosure. Absent a compelling showing to the contrary, these determinations will apply to future annual report filings.

Confidential versions of the reports must be submitted to the Secretary's office using the Excel template provided by the Commission and in a machine-readable and manipulatable format. You must also provide courtesy copies of the confidential filing to the Bureau via email at icsannualreport@fcc.gov.

D. Compliance

We caution Providers that they must proceed in good faith and with absolute candor in preparing and filing their Annual Reporting and Annual Certification Forms. Persons willfully making false statements in an Annual Reporting Form or Annual Certification Form can be punished by fine or forfeiture, under the Communications Act of 1934, 47 U.S.C. 502, 503(b), or by fine or imprisonment under Title 18 of the United States Code, 18 U.S.C. 1001.

III. Definitions

Affiliates means any two or more companies, partnerships, or other legal entities where (a) one entity directly or indirectly owns or controls the other or others, (b) a Third Party controls or has the power to control both or all, (c) the entities share common ownership or have interlocking directorates, or (d) the entities share employees, equipment, and/or facilities. For purposes of this definition, the term “own” means to own an equity interest (or the equivalent thereof) of more than 10%.

Alternative Method for Calculating Average Daily Population means any method other than dividing the sum of all inmates in a facility for each day of a Year by the number of days in the Year.

Ancillary Services means Permissible Ancillary Services and Other Ancillary Services.

Ancillary Service Charge means any charge Consumers may be assessed for, or in connection with, the interstate or international use of Inmate Calling Services that is not included in the per-minute charges assessed for such individual calls. Ancillary Service Charges that may be assessed are limited only to those listed in 47 CFR 64.6000(a)(1)-(5) and consist of Automated Payment Fees, Live Agent Fees, Paper Bill/Statement Fees, Fees for Single-Call and Related Services, and Third-Party Financial Transaction Fees. All other Ancillary Service Charges are prohibited in connection with interstate and international Inmate Calling Services. For purposes of this definition, “interstate” includes any jurisdictionally mixed charge, as defined in 47 CFR 64.6000(u).

Ancillary Services Charge Rules means the FCC rules setting the maximum amounts Providers may charge for Ancillary Services. The Ancillary Service Charge Rules are set forth in 47 CFR 64.6020, as may be subsequently amended by the Commission.

Annual Certification Form means FCC Form 2301(b).

Annual Reporting Form means FCC Form 2301(a). This form consists of (1) the Word template, FCC Form 2301(a)(1), and (2) the Excel template, FCC Form 2301(a)(2).

Automated Payment Fees means credit card payment fees, debit card payment fees, and bill processing fees, including fees for payments made by interactive voice response (IVR), web, or Incarcerated Person Kiosk.

Automated Payment Service means any service providing Customers of Inmate Calling Services with credit card payment, debit card payment, and bill processing services, including enabling payments by interactive voice response (IVR), web, or Incarcerated Person Kiosk.

Average Daily Population and ADP mean the sum of all Incarcerated Persons in a facility for each day of a Year, divided by the number of days in the Year.

Billed Minutes means the number of Inmate Calling Services minutes supplied during a Year for which payment is demanded.

Billed Revenues means gross sales, without adjustment for uncollectable accounts or expenses related to producing these sales, derived from the number of units of a service supplied during a Year for which payment is demanded.

Consumer means the party paying a Provider of Inmate Calling Services.

Contractually Prescribed Facility Rate Component means the Facility-Related Rate Component set forth in 47 CFR 64.6030(d)(2).

Contractually Prescribed Site Commission means a Site Commission payment required pursuant to a contract negotiated between a Facility and a Provider.

Customer means the Incarcerated Person or the person who pays for ICS if that person is not the Incarcerated Person.

Facility means a Prison or Jail as those terms are defined elsewhere in this document.

Facility-Related Rate Component means either the Legally Mandated Facility Rate Component or the Contractually Prescribed Facility Rate Component as set forth in 47 CFR 64.6030(d).

Fees for Single-Call and Related Services means billing arrangements whereby an Incarcerated Person's collect calls are billed through a Third Party on a per-call basis, where the called party does not have an account with the Provider of Inmate Calling Services or does not want to establish an account.

Fixed Site Commission means a Site Commission that is assessed or paid without regard to ICS usage or revenues. Fixed Site Commissions include, but are not limited to, minimum annual guarantee payments, other lump-sum payments, and payments in-kind that Providers make pursuant to ICS contracts.

Incarcerated Person means a person detained in a Prison or Jail, regardless of the duration of the detention.

Inmate Calling Services and ICS mean a service that allows Incarcerated Persons to make calls to individuals outside the Facility where the Incarcerated Person is being held, regardless of the technology used to deliver the service.

ICS-Related Operations means the actions or tasks performed by the Provider or authorized personnel to deliver Inmate Calling Services and related Ancillary Services to Incarcerated Persons and those they call, including but not limited to billing, customer service, and other requirements as determined by contract or by law. It excludes all Site Commission payments, including actions or tasks that are part of In-Kind Site Commission payments.

In-Kind Site Commission means a Site Commission that does not take the form of a Monetary Site Commission.

Intrastate Communication means any communication that originates and terminates in the same state, territory, or possession of the United States (other than the Canal Zone), or the District of Columbia.

International Communication means a communication or transmission from any state, territory, or possession of the United States, or the District of Columbia to points outside the United States.

International Destination means the rate zone in which an international call terminates. For countries that have a single rate zone, International Destination means the country in which an international call terminates.

Interstate Communication means, pursuant to 47 U.S.C. 153(28), communication or transmission (a) from any state, territory, or possession of the United States (other than the Canal Zone), or the District of Columbia, to any other state, territory, or possession of the United States (other than the Canal Zone), or the District of Columbia, (b) from or to the United States to or from the Canal Zone, insofar as such communication or transmission takes place within the United States, or (c) between points within the United States but through a foreign country. Interstate Communication shall not, for purposes of these instructions, include wire or radio communication between points in the same state, territory, or possession of the United States, or the District of Columbia, through any place outside thereof, if such communication is regulated by a state commission.

Jail means a facility of a local, state, or federal law enforcement agency that is used primarily to hold individuals who are: (a) awaiting adjudication of criminal charges; (b) post-conviction and committed to confinement for sentences of one year or less; or (c) post-conviction and awaiting transfer to another facility. The term also includes city, county or regional facilities that have contracted with a private company to manage day-to-day operations; privately owned and operated facilities primarily engaged in housing city, county or regional Incarcerated Persons; facilities used to detain individuals operated directly by the Federal Bureau of Prisons or U.S. Immigration and Customs Enforcement, or pursuant to a contract with those agencies; juvenile detention centers; and secure mental health facilities.

Legally Mandated Facility Rate Component means a rate component set forth in 47 CFR 64.6030(d)(1).

Legally Mandated Site Commission means a Site Commission payment required by state statutes or laws and regulations that are adopted pursuant to state administrative procedure statutes where there is an opportunity for public comment, such as by a state public utility commission or similar regulatory body with jurisdiction to establish Inmate Calling Services rates, terms, and conditions and that operate independently of the contracting process between Facilities and Providers.

Live Agent Fee means a fee associated with the optional use of a live operator to complete Inmate Calling Services Transactions.

Live Agent Service means providing Customers of Inmate Calling Services the optional use of a live operator to complete Inmate Calling Services Transactions.

Monetary Site Commission means a Site Commission that takes the form of a monetary payment.

Other Ancillary Services means an ancillary service that is not a Permissible Ancillary Service.

Paper Bill/Statement Fees means fees associated with providing Customers of Inmate Calling Services an optional paper billing statement.

Paper Bill/Statement Service means providing Customers of Inmate Calling Services an optional paper billing statement.

Permissible Ancillary Services means Automated Payment Service, Live Agent Service, Paper Bill/Statement Service, Single-Call and Related Services, and Third-Party Financial Transaction Services, as defined in Part 64 of the Commission's rules and these Instructions.

Prison means a facility operated by a territorial, state, or federal agency that is used primarily to confine individuals convicted of felonies and sentenced to terms in excess of one year. The term also includes public and private facilities that provide outsource housing to other agencies such as the State Departments of Correction and the Federal Bureau of Prisons; and facilities that would otherwise fall under the definition of Jail but in which the majority of Incarcerated Persons are post-conviction or are committed to confinement for sentences of longer than one year.

Provider, ICS Provider, and Provider of Inmate Calling Services mean any communications service provider that provides Inmate Calling Services, regardless of the technology used, as defined in 47 CFR 64.6000(s). This definition includes all entities acting as Subcontractors as defined below, to the extent that their activities otherwise include the provision of Inmate Calling Services.

Provider-Related Rate Component means the interim per-minute rate specified in either 47 CFR 64.6030(b) or 47 CFR 64.6030(c) that Providers at Jails with Average Daily Populations of 1,000 or more Inmates, and all Prisons, may charge for interstate Collect Calling, Debit Calling, Prepaid Calling, or Prepaid Collect Calling.

Rate Cap Rules means the FCC rules setting the maximum amounts Providers may charge for Inmate Calling Services subject to the FCC's jurisdiction. The Rate Cap Rules are set forth in 47 CFR 64.6030, as may be subsequently amended by the Commission.

Reporting Period means the Year immediately preceding the Year during which an Annual Report is due. For example, the Reporting Period for the Annual Report due in April 2023 is January 1, 2022 through December 31, 2022.

Revenue-Sharing Agreement means any agreement, whether express, implied, written, or oral that is: (a) between a Provider or any Affiliate and a Third Party, such as a financial institution; or (b) between a Provider and any of its Affiliates that, over the course of the agreement, directly or indirectly results in the payment of all or part of the revenue received from the provision of ICS or any Ancillary Service to the other party to the agreement.

Single-Call and Related Services means billing arrangements whereby an Incarcerated Person's collect calls are billed through a Third Party on a per-call basis, where the called party does not have an account with the Provider of Inmate Calling Services.

Site Commissions means any form of monetary payment, in kind payment, gift, exchange of services or goods, fee, technology allowance, or product that a Provider of Inmate Calling Services or Affiliate of a Provider of Inmate Calling Services may pay, give, donate, or otherwise provide to an entity that operates a correctional institution, an entity with which the Provider of Inmate Calling Services enters into an agreement to provide ICS, a governmental agency that oversees a Facility, the city, the county, or state where a Facility is located, or an agent of any such Facility.

Subcontractor means an entity that provides ICS to a Facility and has a contract or other arrangement with another Provider for provision of ICS to that Facility. A Subcontractor need not have a contractual relationship with the Facility.

Telecommunications Relay Services and TRS mean telephone transmission services that provide the ability for an individual who is deaf, hard of hearing, deaf-blind, or who has a speech disability to engage in communication by wire or radio with one or more individuals in a manner that is functionally equivalent to the ability of a hearing individual who does not have a speech disability to communicate using voice communication services by wire or radio, as defined in 47 CFR 64.601(a)(42).

Text Telephone and TTY mean a machine that employs graphic communication in the transmission of coded signals through a wire or radio communication system, as defined in 47 CFR 64.601(a)(43). TTY supersedes the term “TDD” or “telecommunications device for the deaf,” and “TT.”

Third Party means an entity that is not a Provider, an Affiliate of a Provider, or a Facility.

Third-Party Financial Transaction Fees means the exact fees, with no markup, that Providers of Inmate Calling Services are charged by Third Parties to transfer money or process financial transactions to facilitate a Customer's ability to make account payments via a Third Party.

Third-Party Financial Transaction Services means the transfer of money or the processing of financial transactions to facilitate a Customer's ability to make account payments via a Third Party.

Variable Site Commissions means Site Commissions that are assessed on a per-unit basis, such as a per-minute basis, percentage of ICS revenue, or number of ICS phones at a Facility.

Year means a calendar year, from January 1 through December 31 of any given year.

IV. Annual Report Requirements

A. Basic Information

40. This section directs you to provide general information and data about your Company and its Affiliates. Enter your responses for items IV.A.(1) through IV.A.(9) in the Excel template and your responses to items IV.A.(10) through IV.A.(14) in the Word template.

(1) Provider Name: Provide the name under which the Provider offers Inmate Calling Services. If the Provider offers Inmate Calling Services under more than one name, list all relevant names.

(2) Reporting Period: Provide the relevant time period for the information the report covers.

(3) Officer Name, Title: Provide the name and title of the officer completing and certifying FCC Form 2301(a). The officer may be the Chief Executive Officer (CEO), Chief Financial Officer (CFO), or another senior executive with first-hand knowledge of the truthfulness, accuracy, and completeness of the information provided.

(4) Officer Telephone Number: Provide the business telephone number with area code (containing ten digits) for the officer identified in item IV.A.(3).

(5) Officer Email Address: Provide the business email address of the officer identified in item IV.A.(3).

(6) Total Number of Correctional Facilities Served by Provider: Provide the total number of Facilities in which you offered ICS during the Reporting Period. You must include Facilities that you no longer serve if you served them during the Reporting Period.

(7) Number of Prisons Served by Provider: Provide the number of Prisons in which you offered ICS during the Reporting Period. You must include Prisons that you no longer serve, if you served them during the Reporting Period.

(8) Number of Jails Served by Provider With Average Daily Population (ADP) Below 1,000: Provide the number of Jails in which you offered ICS during the Reporting Period that have an ADP below 1,000. You must include Jails that you no longer serve, if you served them during the Reporting Period.

(9) Number of Jails Served by Provider With ADP of 1,000 or more: Provide the number of Jails in which you offered ICS during the Reporting Period that have an ADP of 1,000 or more. You must include Jails that you no longer serve if you served them during the Reporting Period.

(10) Provider Name: In the Word template, provide the name under which the Provider offers Inmate Calling Services. List all relevant names if the Provider offers Inmate Calling Services under more than one name.

(11) Correctional Facilities Served Less Than a Full Year: In the Word template, provide the names of all Facilities that you served for less than a full year during the Reporting Period and the corresponding dates of your service (e.g., [Facility Name], From [Month]/[Date] to [Month]/[Date]). If you served all Facilities reported in item IV.A.(6) during the entirety of the Reporting Period, enter “N/A: The Provider served each Facility listed in the Excel template throughout the entire Reporting Period.”

(12) Explanation of Alternative Method for Calculating ADP: In the Word template, provide the names of all Facilities for which the ADP reported reflects an alternative method for calculating ADP. Describe in detail the method used to calculate ADP for each of those Facilities.

(13) Narrative Description of a Subcontract To Provide ICS: If a Provider contracts with a Subcontractor to provide any aspect of ICS, the Provider and the Subcontractor shall explain each such arrangement in the Word template of their respective Annual Reports. At a minimum, this explanation shall include:

(a) The name of the Provider with the contractual or other agreement with a Facility or contracting authority for the provision of ICS;

(b) The name of the Subcontractor;

(c) The services provided by the Subcontractor under the agreement;

(d) The unique identifier and address for the Facilities at which the Subcontractor provides services under the agreement;

(e) A description of the ICS-Related Operations provided by the Provider;

(f) A description of the ICS-Related Operations provided by the Subcontractor;

(g) A list of the types of ICS calls and Ancillary Services billed by the Provider;

(h) A detailed description of any Revenue-Sharing Agreement between the Provider and the Subcontractor, including any such Agreement with regard to proceeds from those calls and services; and

(i) A list of the types of ICS calls and Ancillary Services billed by the Subcontractor and a description of any Revenue-Sharing Agreement between the Provider and the Subcontractor, including any such Agreement with regard to proceeds from those calls and services.

(14) Additional Information: In the Word template, provide any additional information needed to ensure that your entries for Basic Information are full and complete.

B. ICS Rates

41. This section directs you to report Intrastate, Interstate, and International ICS rates you charged at each Facility you served during the Reporting Period. Enter your responses to items IV.B.(1) through IV.B.(9) in the Excel template and your responses to items IV.B.(7)(d), IV.B.(7)(e), IV.B.(8)(e), IV.B.(9)(e), IV.B.(9)(f), IV.B.(9)(g), and IV.B.(9)(h) in the Word template.

(1) Contracting Party: In this column, enter the name the counterparty to each contract for the provision of ICS that the Provider held during the Reporting Period. Identify the specific party with whom the Provider executed the contract (e.g., “[State's] Department of Corrections”).

(2) Contract Identifier: In this column, provide a unique identifier for each contract for the Provider's provision of ICS that was in effect during the Reporting Period.

(3) Name of Facilities Covered by Contract: In this column, for each individual contract listed in response to item IV.B.(2), enter the name of every Facility served under that contract during the Reporting Period.

(4) Location of Facilities: In these two columns, enter the complete address and geographical coordinates for each Facility listed in response to item IV.B.(3).

(4)(a) Facility Address: Enter the complete address (street address, city, state, and ZIP Code) of the physical location of each listed Facility.

(4)(b) Geographical Coordinates: Enter the geographical coordinates of each listed Facility.

(5) Facility Type: In this column, indicate whether the relevant Facility is a Prison or a Jail. You may not enter any terms other than either Prison or Jail in this column.

(6) ADP: In this column, provide the ADP that corresponds to each Facility that the Provider listed in response to item IV.B.(3). You may enter only an integer in this column.

(7) Intrastate Rates: In these columns, provide information pertaining to rates you charged for Intrastate ICS calls from each Facility you served during the Reporting Period. For the first two categories listed below—Highest and Year-End—provide, for each Facility: (a) the total amount charged for a 15-minute call; (b) the amount charged for the first minute of that call; and (c) the amount charged per minute for each subsequent minute of that call. If your per-minute rate at a Facility did not vary, then enter the same rate in the relevant sub-columns.

For example, if you provided Intrastate ICS at $0.11 for the first minute and $0.10 per minute for each subsequent minute during the first six months of the Reporting Period and at $0.09 for the first minute and $0.11 per minute during the remainder of the Reporting Period, your former rate combination would result in total charges of $1.51 (0.11 + 0.10 * 14) for a 15-minute call and your latter rate combination would result in total charges of $1.63 (0.09 + 0.11 * 14) for a 15-minute call. You therefore would report $1.63 in sub-column (7)(a)(i), $0.09 in sub-column (7)(a)(ii), and $0.11 in sub-column (7)(a)(iii).

(7)(a) Highest 15-Minute Rate:

(7)(a)(i) 15-Minute Rate: Report the highest amount you charged for a 15-minute Intrastate call from each Facility during the Reporting Period in sub-column (7)(a)(i). If you offered different Intrastate rate plans within the Reporting Period or changed Intrastate rates during the Reporting Period, you must report the rate combination that resulted in the highest 15-minute rate even if a lower 15-minute rate was also available to Consumers at some point during the Reporting Period.

(7)(a)(ii) First Minute Rate: You must break down the highest 15-minute rate you entered in sub-column (7)(a)(i) into two individual per-minute rates and enter the rate for the first minute in sub-column (7)(a)(ii).

(7)(a)(iii) Additional Minute Rate: You must break down the highest 15-minute rate you entered in sub-column (7)(a)(i) into two individual rates and enter the rate for each subsequent minute in sub-column (7)(a)(iii).

(7)(b) Highest Year-End 15-Minute Rate:

(7)(b)(i) 15-Minute Rate: Report the highest amount you charged for a 15-minute Intrastate call from each Facility on December 31 in sub-column (7)(b)(i). If you offered different Intrastate rate plans on December 31, you must report the rate combination that resulted in the highest 15-minute rate even if a lower 15-minute Intrastate rate was also available to Consumers on December 31. For Facilities that you no longer served as of December 31, enter “0.”

(7)(b)(ii) First Minute Rate: You must break down the highest year-end 15-minute rate you entered in (7)(b)(i) into two individual rates and enter the first minute rate in sub-column (7)(b)(ii). For Facilities that you no longer served as of December 31, enter “0.”

(7)(b)(iii) Additional Minute Rate: You must break down the highest year-end 15-minute rate you entered in sub-column (7)(b)(i) into two individual rates and enter the rate for each subsequent minute in sub-column (7)(b)(iii). For Facilities that you no longer served as of December 31, enter “0.”

(7)(c) Average Per-Minute Rate: Report the average per-minute rate you charged for Intrastate ICS calls from each Facility during the Reporting Period. This average shall equal the total Billed Revenues from charges for intrastate ICS calls from the Facility during the Reporting Period (excluding any revenues from Ancillary Services) divided by the total Billed Minutes of Intrastate ICS from that Facility during the Reporting Period.

(7)(d) Alternative Rate Structures: If you have implemented any rate structure other than per-minute rates for Intrastate ICS calls from any Facility, explain in detail in the Word template.

(7)(e) Additional Information: In the Word template, provide any additional information needed to ensure that your entries for Intrastate Rates are full and complete.

(8) Interstate Rates: In these columns, provide information pertaining to rates you charged for Interstate ICS calls from each Facility you served during the Reporting Period. For the first two categories listed below—Highest and Year-End—provide, for each Facility: (a) the total amount charged for a 15-minute call including both the Provider-Related Component and any Facility-Related Component; (b) the amount charged for the first minute of that call; (c) the amount charged per minute for each subsequent minute of that call; and (d) any Facility-Related Rate Component of the amount charged per minute of that call. If your per-minute rate at a Facility did not vary, then enter the same rate in the relevant sub-columns.

For example, if you provided Interstate ICS at $0.11 for the first minute and $0.10 per minute for each subsequent minute during the first six months of the Reporting Period and at $0.09 for the first minute and $0.11 per minute during the remainder of the Reporting Period, your former rate combination would result in total charges of $1.51 for a 15-minute call and your latter rate combination would result in total charges of $1.63 for a 15-minute call. You therefore would report $1.63 in sub-column (8)(a)(i). If you charged $0.02 per-minute as your Facility-Related Rate Component, then you must report $0.09 in sub-column (8)(a)(ii), which asks for the total first minute rate including the Facility-Related Rate Component; $0.11 in sub-column (8)(a)(iii), which asks for the total additional minute rate including the Facility-Related Rate Component; and $0.02 in sub-column (8)(a)(iv), which asks for the per-minute Facility-Related Rate Component alone.

(8)(a) Highest 15-Minute Rate:

(8)(a)(i) Highest 15-Minute Rate: Report the highest amount you charged for a 15-minute Interstate call from each Facility during the Reporting Period in sub-column (8)(a)(i). If you offered different Interstate rate plans within the Reporting Period or changed Interstate rates during the Reporting Period, you must report the rate combination that resulted in the highest 15-minute rate even if a lower 15-minute rate was also available to Consumers at some point during the Reporting Period. You must calculate the highest 15-minute rate by including both the Provider-Related Rate Component and any Facility-Related Component of your per-minute interstate rates.

(8)(a)(ii) First Minute Rate: You must break down the highest 15-minute rate you entered in sub-column (8)(a)(i) into two individual per-minute rates and enter the first minute rate in sub-column (8)(a)(ii). This total first minute rate should include both the Provider-Related Rate Component and any Facility-Related Rate Component.

(8)(a)(iii) Additional Minute Rate: You must break down the highest 15-minute rate you entered in sub-column (8)(a)(i) into two individual rates and enter the rate for each subsequent minute in sub-column (8)(a)(iii). This total additional minute rate should include both the Provider-Related Rate Component and any Facility-Related Rate Component.

(8)(a)(iv) Per-Minute Facility-Related Rate: Report your Facility-Related Rate Component of your per-minute Interstate rates applied in calculating the Highest 15-Minute Rate you entered in (8)(a)(i).

(8)(b) Highest Year-End 15-Minute Rate:

(8)(b)(i) Highest 15-Minute Rate: Report the highest amount you charged for a 15-minute Interstate call from each Facility on December 31 in sub-column (8)(b)(i). If you offered different Interstate rate plans on December 31, you must report the rate combination that resulted in the highest 15-minute rate even if a lower 15-minute Interstate rate was also available to the Consumers on December 31. You must calculate the highest 15-minute rate by including both the Provider-Related Rate Component and any Facility-Related Component of your per-minute Interstate rates. For Facilities that you no longer served as of December 31, enter “0.”

(8)(b)(ii) First Minute Rate: You must break down the highest year-end 15-minute rate you entered in (8)(b)(i) into two individual rates and enter the first minute rate in sub-column (8)(b)(ii). This total first minute rate should include both the Provider-Related Rate Component and any Facility-Related Rate Component. For Facilities that you no longer served as of December 31, enter “0.”

(8)(b)(iii) Additional Minute Rate: You must break down the highest year-end 15-minute rate you entered in sub-column (8)(b)(i) into two individual rates and enter the rate for each subsequent minute in sub-column (8)(b)(iii). This total additional minute rate should include both the Provider-Related Rate Component and any Facility-Related Rate Component. For Facilities that you no longer served as of December 31, enter “0.”

(8)(b)(iv) Per-Minute Facility-Related Rate: Report your Facility-Related Rate Component of your per-minute interstate rates applied in calculating the Highest 15-Minute Rate you entered in (8)(b)(i). For Facilities that you no longer served as of December 31, enter “0.”

(8)(c) Average Per-Minute Rate: Report the average per-minute rate you charged for Interstate ICS calls from each Facility during the Reporting Period. This average shall equal the total Billed Revenues from charges for interstate ICS calls from the Facility during the Reporting Period (excluding any revenues from Ancillary Services) divided by the total number of Billed Minutes of interstate ICS from that Facility during the Reporting Period.

(8)(d) Above Rate Caps: In this column, enter “Yes” if you charged an Interstate rate above the maximum rate permitted under the Commission's Rate Cap Rules for any minute of an Interstate ICS call from the Facility during the Reporting Period.

Enter “No” in this column if you only charged Interstate rates at or below the maximum rate permitted under the Commission's Rate Cap Rules for ICS calls from the given Facility during the Reporting Period.

Please note that the Commission's Rate Cap Rules can change during a Reporting Period and you must enter “Yes” or “No” for each Facility by comparing your rates to the relevant rate caps that were in effect when you charged those rates to the Consumers.

(8)(e) Additional Information: In the Word template, provide any additional information needed to ensure that your entries for Interstate Rates are full and complete.

(9) International Rates: In these columns, provide information pertaining to your highest per-minute rates and any termination charges you assessed on Consumers for International ICS calls from each Facility you served during the Reporting Period. You must calculate termination charges in accordance with 47 CFR 64.6030(e) and complete all subsections below.

42. If you charged the same international rates for all facilities governed by the same contract during the reporting period, you may report your ICS international rate information on a contract-level basis, using the separate tab “B.(9) International Rates” within the Excel template.

(9)(a) Domestic Portion of International Rates: Select “Yes” if the domestic portion of your International ICS rates from the Facility (i.e., your International ICS rate minus any International termination charges) was the same as the Interstate rates you charged for Interstate calls from the Facility. Select “No” if the domestic portion of your International ICS rates differed from the Interstate rates you charged for Interstate calls from the Facility. If you select “No,” you must explain how they differed in the Word template, as further described in item IV.B.(9)(e) below.

(9)(b) Rates By International Destination: Report, for each calendar quarter, the maximum amount and the average amount that you paid your underlying International service provider for calls to each International Destination on a per-minute basis calculated in accordance with 47 CFR 64.6030(e) at each Facility you served during the Reporting Period.

(9)(b)(i) Destination: Enter every International Destination at which calls from each Facility you served were terminated during the Reporting Period.

(9)(b)(ii) Highest Per-Minute Rate: Enter the highest per-minute rate you charged for International ICS calls from each Facility during the Reporting Period.

(9)(b)(ii)(1) First Minute Rate: Enter the highest first minute rate you charged for International ICS calls from each Facility during the Reporting Period.

(9)(b)(ii)(2) Additional Minute Rate: Enter the highest additional minute rate you charged for International ICS calls from each Facility during the Reporting Period.

(9)(b)(iii) Maximum Termination Charges: Report the maximum amount that you paid your underlying International service provider for calls to each International Destination on a per-minute basis.

(9)(b)(iii)(1) Q1: Enter the maximum termination charge for the first quarter of the Reporting Period.

(9)(b)(iii)(2) Q2: Enter the maximum termination charge for the second quarter of the Reporting Period.

(9)(b)(iii)(3) Q3: Enter the maximum termination charge for the third quarter of the Reporting Period.

(9)(b)(iii)(4) Q4: Enter the maximum termination charge for the fourth quarter of the Reporting Period.

(9)(b)(iv) Average Termination Charges: Report the average amount that you paid your underlying International service provider for calls to each International Destination on a per-minute basis calculated in accordance with 47 CFR 64.6030(e).

(9)(b)(iv)(1) Q1: Enter the average termination charge for the first quarter of the Reporting Period.

(9)(b)(iv)(2) Q2: Enter the average termination charge for the second quarter of the Reporting Period.

(9)(b)(iv)(3) Q3: Enter the average termination charge for the third quarter of the Reporting Period.

(9)(b)(iv)(4) Q4: Enter the average termination charge for the fourth quarter of the Reporting Period.

(9)(c) Above Cap International Rates: In this column, enter “Yes” if you assessed any rate above the maximum amount permitted under the Commission's Rate Cap Rules for any minute of an International ICS call from the Facility during the Reporting Period.

Enter “No” in this column if your International rates were at or below the maximum amount permitted under the Commission's Rate Cap Rules for each International ICS call from the given Facility during the Reporting Period.

(9)(d) Above Cap Termination Charges: In this column, enter “Yes” if you assessed any termination charge above the maximum amount permitted under the Commission's Rate Cap Rules for any minute of an International ICS call from the Facility during the Reporting Period.

Enter “No” in this column if your termination charges were at or below the maximum amount permitted under the Commission's Rate Cap Rules for ICS calls from the given Facility during the Reporting Period.

(9)(e) Domestic Portion of International Rates: If any of your answers for item IV.B.(9)(a) is “No,” explain in the Word template how the domestic portion of your International ICS rates differed from the Interstate rates you charged for Interstate calls from the Facility.

(9)(f) Above Cap Termination Charges: If any of your answers for item IV.B.(9)(b) is “Yes,” explain in detail in the Word template the circumstances surrounding your assessing a termination charge above the maximum amount permitted under the Commission's Rate Cap Rules. This explanation shall include, among other relevant information, the circumstances leading to the above cap assessments; the total amount of above cap assessments; the number of Consumers affected; the number of calls affected; a breakdown of the above cap assessments by Facility and International Destination; and a statement as to whether the above cap assessments have been refunded to Consumers.

(9)(g) Other International Rate Offerings: Your responses to Parts IV.B.(9)(a) through IV.B.(9)(f) will provide, either on a Facility-by-Facility basis or, if certain conditions are met, a contract-level basis, detailed international rate information for each international rate destination that to which ICS calls were placed from a particular Facility during the Reporting Period. In the Word template, provide link(s) to publicly available web page(s) setting forth the rates at which you offered international ICS during the Reporting Period for International Destinations that were not called from a particular Facility during the Reporting Period.

(9)(h) Additional Information: In the Word template, provide any additional information needed to ensure that your entries for International Rates are full and complete.

C. ICS Rates Above the Maximum Rates Permitted Under the Commission's Rate Cap Rules

This section requires you to provide additional information regarding the Interstate and International rates charged for ICS calls from each Facility for which you entered “Yes” in response to items IV.B.(8)(d) and IV.B.(9)(d). Enter “N/A: No Charges Above the FCC Rate Caps” at the top of the sheet C. of the Excel template if you entered “No” for every Facility you served during the Reporting Period in response to items IV.B.(8)(d) and IV.B.(9)(d). Enter your responses for items IV.C.(1) through IV.C.(3) in the Excel template, and items IV.C.(4) through IV.C.(6) in the Word template.

(1) Contract Identifier: In this column, provide a unique identifier for each contract for the Provider's provision of ICS that was in effect during the Reporting Period.

(2) Name of Facilities Covered by Contract: In this column, for each individual contract listed in response to item IV.C.(1), enter the name of every Facility served under that contract during the Reporting Period.

(3) Rate Information: In these columns, provide additional information regarding the Interstate and International rates charged for ICS calls from each Facility for which you entered “Yes” in response to items IV.B.(8)(d) and IV.B.(9)(d).

(3)(a) Applicable Period: Provide the relevant period during which you charged each reported rate in a MM/DD/YYYY format (e.g., “03/22/2022 to 07/15/2022”).

(3)(b) Interstate Rates: Complete all items below for your Interstate ICS rates charged during the Reporting Period.

(3)(b)(i) Total Rate: If your total combined Interstate rate (i.e., the sum of Provider-Related Rate Component and Facility-Related Rate Component) and/or a component thereof exceeded the maximum rate permitted under the Rate Cap Rules, report the total per-minute rate that your charged.

(3)(b)(ii) Provider Rate: If your total combined Interstate rate and/or a component thereof exceeded the maximum rate permitted under the Rate Cap Rules, report the Provider-Related Rate Component of the rate that you charged.

(3)(b)(iii) Facility Rate: If your total combined Interstate rate and/or a component thereof exceeded the maximum rate permitted under the Rate Cap Rules, report the Facility-Related Rate Component of the rate that you charged.

(3)(b)(iv) Facility Rate Type: Indicate the nature of the rate that you reported in (3)(b)(iii). Select “Contract” if the facility rate component is required by your contract with the Facility. Select “State Law” if the facility rate component is required by a state statute, law, or regulation applicable to your rate.

(3)(c) International Rates: Complete all items below for your International ICS rates charged during the Reporting Period.

(3)(c)(i) Total Rate: If your total per-minute International ICS rate (i.e., the sum of the domestic portion and any termination charge) and/or a component thereof exceeded the maximum rate permitted under the Rate Cap Rules, report the total per-minute rate that your charged.

(3)(c)(ii) Termination Charge: If your total per-minute International ICS rate or your termination charge exceeded the maximum amount permitted under the Rate Cap Rules, report the termination charge that you charged.

(4) Explanation of Above Cap Interstate Rates: In the Word template, explain in detail the circumstances surrounding each Interstate ICS rate you charged that exceeded the maximum amount permissible under the Commission's Rate Cap Rules. This explanation shall include, among other relevant information, the circumstances leading to the above cap charges; the total amount of above cap charges; the number of Consumers affected; the number of calls affected; a breakdown of the above cap charges by Facility; and a statement as to the extent to which the above cap assessments have been refunded to Consumers.

(5) Explanation of Above Cap International Rates: In the Word template, explain in detail the circumstances surrounding each International ICS rate you charged that exceeded the maximum amount permissible under the Commission's Rate Cap Rules. This explanation shall include, among other relevant information, the circumstances leading to the above cap charges; the total amount of above cap charges; the number of Consumers affected; the number of calls affected; a breakdown of the above cap charges by Facility; and a statement as to the extent to which the above cap assessments have been refunded to Consumers.

(6) Additional Information: In the Word template, provide any additional information needed to ensure that your entries for ICS Rates Above the Maximum Rates Permitted Under the Commission's Rate Cap Rules are full and complete.

D. Ancillary Service Charges

This section requires you to provide, on a Facility-by-Facility basis, information regarding any Ancillary Services you offered during the Reporting Period. Enter your responses for items IV.D.(1) through IV.D.(3) in the Excel template, and items IV.D.(4) through IV.D.(8) in the Word template.

(1) Contract Identifier: In this column, provide a unique identifier for each contract for the Provider's provision of ICS that was in effect during the Reporting Period.

(2) Name of Facilities Covered by Contract: In this column, for each individual contract listed in response to item IV.D.(1), enter the name of every Facility served under that contract during the Reporting Period.

(3) Ancillary Service Charges: The Excel template contains columns for Automated Payment Service, Live Agent Service, Paper Bill/Statement Service, Single-Call and Related Services, and Third-Party Financial Transaction Services, and a placeholder column for Other Ancillary Services. Each Ancillary Service column contains up to eleven sub-columns, (3)(a)-(g), as described below. Using these sub-columns, you must indicate whether you assessed an Ancillary Service Charge at the relevant Facility during the Reporting Period, and report the jurisdictional nature of the charge, the amount you billed to Consumers per transaction, whether the Ancillary Service Charge is fixed or variable, the total number of times each charge was assessed, and information regarding Single-Call and Related Services fees and Third-Party Financial Transaction Fees. For any Ancillary Service Charges you assessed on Consumers that are not listed, use the placeholder column for Other Ancillary Services and change the column name (e.g., Other-Connection Fee) and repeat this column as needed.

(3)(a) Billed (Yes/No): In this column, enter “Yes” if you assessed an Ancillary Service Charge to Consumers.

(3)(b) Jurisdiction: In this column, enter “Intrastate only,” “Interstate/International only,” or “Both,” depending on the jurisdictional nature of the Ancillary Service Charge.

(3)(c) Amounts Billed for Ancillary Service Charges: In this column, report the maximum amount per transaction billed to Consumers for each type of Ancillary Service Charge that you assessed.

(3)(d) Fixed or Variable Fees: In this column, report whether the Ancillary Service Charge is fixed or varied based on the transaction amount or other factors.

(3)(e) Number of Times Each Charge Has Been Assessed: In this column, report the total number of times you assessed each Ancillary Service Charge to Consumers from each Facility during the Reporting Period. The number must be reported by Facility, not by Consumer, and must be for any amounts billed, not just the maximum amount billed, to Consumers.

(3)(f) Third-Party Single Call and Related Services Fees: In this column, provide the name of each Third Party for which you passed through to Consumers a transaction fee for Single Call and Related Services Fees during the Reporting Period. Enter N/A if you did not pass through any such transaction fees during the reporting period.

(3)(f)(1): For each third party identified in response to item IV.D(3)(f), state the number of times you passed through to Consumers a transaction fee for Single Call and Related Services during the Reporting Period. Enter N/A if you did not pass through any such transaction fees during the reporting period.

(3)(f)(2): For each third party identified in response to item IV.D(3)(f), provide the total amount of transaction fees for Single Call and Related Services that you passed through to Consumers during the Reporting Period. Enter N/A if you did not pass through any such transaction fees during the reporting period.

(3)(g) Third Party Financial Transaction Fees: In this column, provide the name of each Third Party for which you passed through to Consumers Third Party Financial Transaction Fees during the Reporting Period. Enter N/A if you did not pass through any such transaction fees during the reporting period.

(3)(g)(1): For each third party identified in response to item IV.D(3)(g), state the number of times you passed through to Consumers a Third Party Financial Transaction Fees during the Reporting Period. Enter N/A if you did not pass through any such transaction fees during the reporting period.

(3)(g)(2): For each third party identified in response to item IV.D(3)(g), provide the total amount of Third Party Financial Transaction Fees that you passed through to Consumers during the Reporting Period. Enter N/A if you did not pass through any such transaction fees during the reporting period.

(4) Above Cap Ancillary Service Charges: If any of your answers for item IV.D.(3)(c), Amounts Billed for Ancillary Service Charges, exceeds the maximum charges permitted under the Commission's Ancillary Service Charge Rules, explain in detail in the Word template the circumstances surrounding the above cap charges. This explanation shall include, among other relevant information, the circumstances leading to the above cap charges; the total amount of above cap charges; the number of Consumers affected; a breakdown of the above cap charges by type of charge and frequency for each relevant Facility; and a statement as to the extent to which the above cap charges have been refunded to Consumers.

(5) Variable Ancillary Service Charges: If any of your answers for item IV.D.(3)(d), Fixed or Variable Fees, is variable, explain in the Word template how the variable fee is calculated, and provide the allocation and/or methodology for the variable fee, if applicable.

(6) Allocation of Reported Number: If any of your answers for item IV.D.(3)(e), Number of Times Each Charge Has Been Assessed, reflects an allocation of Ancillary Service Charge payments among Facilities, explain in the Word template why an allocation is necessary and provide the methodology used to perform the allocation.

(7) Calculating Variable Service Fees: In the Word template, explain in detail how you calculated variable service fees charged to consumers for using ancillary services.

(8) Additional Information: In the Word template, provide any additional information needed to ensure that your entries for Ancillary Service Charges are full and complete.

E. Site Commissions

This section requires you to report, for each Facility you served during the Reporting Period, your total average monthly Site Commission payments and to divide those payments into certain specified categories. Enter your responses for items IV.E.(1) through IV.E.(4) in the Excel template, and items IV.E.(5) through IV.E.(8) in the Word template.

Each category's monthly average shall be calculated by dividing the total Site Commission payments for that category during the Reporting Period by number of months during which you provided ICS during the Reporting Period. Each of your entries shall be a dollar amount, except that you shall enter “N/A” for categories for which you had no Site Commission payments during the Reporting Period.

(1) Contract Identifier: In this column, provide a unique identifier for each contract for the Provider's provision of ICS that was in effect during the Reporting Period.

(2) Name of Facilities Covered by Contract: In this column, for each individual contract listed in response to item IV.E.(1), enter the name of every Facility served under that contract during the Reporting Period.

(3) Monthly Site Commission Payments: Report, for each Facility you served during the Reporting Period, the dollar amount of your average monthly Site Commission payments during the Reporting Period. Enter “N/A” for the sub-columns if you did not pay the applicable Site Commission.

(3)(a) Legally Mandated Site Commission Payments: Report, for each Facility you served during the Reporting Period, the dollar amount of your average monthly Legally Mandated Site Commission payments during the Reporting Period.

(3)(a)(i) Monetary Site Commission Payments: Report, for each Facility you served during the Reporting Period, the dollar amount of your average monthly Legally Mandated Site Commission payments that were Monetary Site Commission payments.

(3)(a)(i)(1) Fixed Site Commission Payments: Report, for each Facility you served during the Reporting Period, the dollar amount of your average monthly Legally Mandated, Monetary Site Commission payments that were Fixed Site Commission payments.

(3)(a)(i)(2) Variable Site Commission Payments: Report, for each Facility you served during the Reporting Period, the dollar amount of your average monthly Legally Mandated, Monetary Site Commission payments that were Variable Site Commission payments.

(3)(a)(ii) In-Kind Site Commission Payments: Report, for each Facility you served during the Reporting Period, the dollar amount of your average monthly Legally Mandated Site Commission payments that were In-Kind Site Commission payments.

(3)(a)(ii)(1) Fixed Site Commission Payments: Report, for each Facility you served during the Reporting Period, the dollar amount of your average monthly Legally Mandated, In-Kind Site Commission payments that were Fixed Site Commission payments.

(3)(a)(ii)(2) Variable Site Commission Payments: Report, for each Facility you served during the Reporting Period, the dollar amount of your average monthly Legally Mandated, In-Kind Site Commission payments that were Variable Site Commission payments.

(3)(b) Contractually Prescribed Site Commission Payments: Report, for each Facility you served during the Reporting Period, the dollar amount of your average monthly Contractually Prescribed Site Commission payments.

(3)(b)(i) Monetary Site Commission Payments: Report, for each Facility you served during the Reporting Period, the dollar amount of your average monthly Contractually Prescribed Site Commission payments that were Monetary Site Commission payments.

(3)(b)(i)(1) Fixed Site Commission Payments: Report, for each Facility you served during the Reporting Period, the dollar amount of your average monthly Contractually Prescribed, Monetary Site Commission payments that were Fixed Site Commission payments.

(3)(b)(i)(2) Variable Site Commission Payments: Report, for each Facility you served during the Reporting Period, the dollar amount of your average monthly Contractually Prescribed, Monetary Site Commission payments that were Variable Site Commission payments.

(3)(b)(ii) In-Kind Site Commission Payments: Report, for each Facility you served during the Reporting Period, the dollar amount of your average monthly Contractually Prescribed Site Commission payments that were In-Kind Site Commission payments.

(3)(b)(ii)(1) Fixed Site Commission Payments: Report, for each Facility you served during the Reporting Period, the dollar amount of your Legally Mandated, In-Kind Site Commission payments that were Fixed Site Commission payments.

(3)(b)(ii)(2) Variable Site Commission Payments: Report, for each Facility you served during the Reporting Period, the dollar amount of your average monthly Contractually Prescribed, In-Kind Site Commission payments that were Variable Site Commission payments.

(4) Total Site Commission Amount Paid: For each Facility you served during the Reporting Period, report the total dollar amount of your Site Commission payments during the Reporting Period.

(4)(a) Total Fixed Site Commissions Amount Paid: In this column, enter the total dollar amount in Fixed Site Commissions you paid to the Facility during the Reporting Period.

(4)(b) Total Variable Site Commissions Amount Paid: In this column, enter the total dollar amount in Variable Site Commissions you paid to the Facility during the Reporting Period.

(5) Allocation of Reported Amount: If any amount reported for items in IV.E.(3)-(4) reflects an allocation of Site Commission payments among Facilities covered by a given contract, explain in the Word template why an allocation is necessary, provide the methodology used to perform the allocation, and explain why you chose the particular allocation method. For each amount reflecting an allocation of Site Commission payments among Facilities covered by a given contract, you must identify each Facility to which that amount has been allocated and include the contract identifier information for each Facility covered by that contract.

(6) In-Kind Site Commission: Describe in the Word template your in-kind Site Commission payments in detail, including the valuation methodology you used for your responses in the Excel Template. Specifically describe each Security Service that you classify as an In-Kind Site Commission payment. Also specifically describe any other payment, gift, exchange of services or goods, fee, technology allowance, or product that you classify as an In-Kind Site Commission payment.

(7) Legal Authority for Legally Mandated Site Commission Payments: For any Legally Mandated Site Commission payments reported in item IV.E.(3)(a) above, provide a citation to the authority requiring the Legally Mandated Site Commission at the Facility.

(8) Additional Information: In the Word template, provide any additional information needed to ensure that your entries for Site Commissions are full and complete.

F. Disability Access

43. This section directs you to provide, on a Facility-by-Facility basis, information regarding any completed calls that utilized the Disability Access services you offer during the Reporting Period. Enter your responses for items IV.F.(1) through IV.F.(10) in the Excel template, and items IV.F.(11) through IV.F.(13) in the Word template.

(1) Contract Identifier: In this column, provide a unique identifier for each contract for the Provider's provision of ICS that was in effect during the Reporting Period.

(2) Name of Facilities Covered by Contract: In this column, for each individual contract listed in response to item IV.F.(1), enter the name of every Facility served under that contract during the Reporting Period.

(3) Number of Disability-Related Calls: In this column, list the number of TTY-based ICS calls made in that Facility during the Reporting Period.

(4) Number of Dropped Disability-Related Calls: In this column, list the number of dropped TTY-based ICS calls made in that Facility during the Reporting Period.

(5) Number of Complaints Regarding Problems Experienced with Disability-Related Calls: In this column, provide the number of complaints received by the Provider related to a problem with TRS or TTY-based ICS calls made in that Facility during the Reporting Period. These problems could include, for example, dropped calls and calls with poor quality connections.

(6) Ancillary Service Charges: In this column, list each type of Ancillary Service Charge you assessed during the Reporting Period for access to or use of TTY equipment or other disability-related ICS technologies at the relevant Facility.

(7) Billed (Yes/No): In this column, enter “Yes” if you assessed an Ancillary Service Charge to Consumers of TTY-based calls.

(8) Jurisdiction: In this column, enter “Intrastate only,” “Interstate only,” or “Both,” depending on the jurisdictional nature of the Ancillary Service Charge.

(9) Amounts Billed for Ancillary Service Charges: In this column, report the total amount billed to Consumers of TTY-based calls for each type of Ancillary Service Charge that you assessed. If there was no cost to the Consumer, report the amount billed as zero.

(10) Number of Times Each Charge Has Been Assessed: In this column, report the total number of times you assessed each Ancillary Service Charge to Consumers of TTY-based calls at each Facility during the Reporting Period. The number must be reported by Facility, not by Consumer, and must be for any amounts billed, not just the maximum amount billed, to Consumers.

(11) Above Cap TTY-Based Ancillary Service Charges: If any of your answers for item IV.F.(9), Amounts Billed for Ancillary Service Charges, exceeds the maximum charges permitted under the Commission's Ancillary Service Charge Rules, explain in detail in the Word template the circumstances surrounding the above cap charges. This explanation shall include, among other relevant information, the circumstances leading to the above cap charges; the total amount of above cap charges; the number of Consumers affected; a breakdown of the above cap charges by type of charge and frequency for each relevant Facility; and a statement as to the extent to which the above cap charges have been refunded to Consumers.

(12) Allocation of Reported Number: If a reported number of times each charge has been assessed reflects an allocation of Ancillary Service Charge payments among Facilities, explain in the Word template why an allocation is necessary, provide the methodology used to perform the allocation, and why you chose the particular allocation method.

(13) Additional Information: In the Word template, provide any additional information needed to ensure that your entries for Disability Access are full and complete.

V. Annual Certificate Requirements

Each Provider of Inmate Calling Services must submit a signed certification form as part of Annual Report. The Chief Executive Officer (CEO), Chief Financial Officer (CFO), or other senior executive of the Provider must complete the form and certify that, based the executive's own reasonable inquiry, that all statements and information contained in the Provider's Annual Report are true, accurate, and complete. The Certification Form is Appendix C to these Instructions.

(1) Name of Service Provider: Provide the name under which the provider offers ICS. If the provider offers ICS under more than one name, provide all relevant names.

(2) Reporting Years: Provide the relevant time period for the information the certification covers.

(3) Officer Name, Title: Provide the name and title of the officer completing the certification form. The officer must be the CEO, CFO, or other senior executive who can attest to the truthfulness, accuracy, and completeness of the information provided.

(4) Mailing Address of Officer: Provide the business mailing address of the officer identified in item V.(3).

(5) Telephone Number: Provide the business telephone number, with area code, of the officer identified in item V.(3).

(6) Email Address: Provide the business email address of the officer identified in item V.(3).

(7) Certification: This item requires the person who signs the certification form on behalf of the service provider to declare, under penalty of perjury, that (1) the signatory is an officer of the above-named service provider and is authorized to submit the attached Annual Report on behalf of the service provider; (2) the signatory has examined the attached Annual Report and determined that all requested information has been provided; and (3) based on information known to the signatory, or provided to the signatory by employees responsible for the information being submitted, and on the signatory's own reasonable inquiry, all statements and information contained in the provider's Annual Report are true, accurate, and complete.

(8) Signature of Authorized Officer: The signature of the officer identified in item V.(3) is required in this block.

(9) Date: The date the officer identified in item V.(3) signs the form is required in this block.

(10) Printed Name of Authorized Officer: The printed name of the officer identified in item V.(3) is required in this block.

[FR Doc. 2022-16146 Filed 8-1-22; 8:45 am]

BILLING CODE 6712-01-P